FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 26, 2007.

A. Federal Reserve Bank of Richmond (A. Linwood Gill, III, Vice President) 701 East Byrd Street, Richmond, Virginia 23261-4528:

1. The First Neighborhood Bank Employee Stock Ownership Plan by its Trustees Garlan Miller, Richard E. Bowlby, and Charles L. Staats all of Spencer, West Virginia, and Jeanette Atkinson, Reedy, West Virginia,; to retain control West-Central Bancorp, Inc., Spencer, West Virginia, and thereby retain control of First Neighborhood Bank, Inc., Spencer, West Virginia.

B. Federal Reserve Bank of Atlanta (David Tatum, Vice President) 1000 Peachtree Street, N.E., Atlanta, Georgia 30309:

1. John Charles Simpson, Jr., Trust, the Angela Katherine Simpson Trust (the Trusts), and Simeon A. Thibeaux, Jr., as trustee of the Trusts, all of Alexandria, Louisiana; to collectively acquire additional voting shares of Red River Bancshares, Inc., and thereby indirectly collectively acquire additional voting shares of Red River Bank, both of Alexandria, Louisiana.

Board of Governors of the Federal Reserve System, July 6, 2007.
Robert deV. Frierson,
Deputy Secretary of the Board.

[FR Doc. E7-13406 Filed 7-10-07; 8:45 am]

BILLING CODE 6210-01-S